DEPARTMENT OF AGRICULTURE

Agricultural Marketing Service

7 CFR Part 1220

[No. LS-99-17]

Soybean Promotion and Research: the Procedures To Request a Referendum; Correction

AGENCY: Agricultural Marketing Service, USDA.

ACTION: Final rule; correction of effective date.

SUMMARY: This document corrects the effective date of the correction published in the Federal Register on January 3, 2000. The effective date is being changed from January 3, 2000, to December 30, 1999, to permit the corrected subpart F, Procedures to Request a Referendum, to be published in the 2000 issue of the Code of Federal Regulations.

DATES: The effective date of the January 3, 2000 rule is corrected to December 30, 1999.

FOR FURTHER INFORMATION CONTACT: Ralph L. Tapp, Chief, Marketing Programs Branch, Livestock and Seed program, (202) 720-1115.

SUPPLEMENTARY INFORMATION: The Department of Agriculture (Department) published a correction in the Federal Register on January 3, 2000 (65 FR 1), redesignating section numbers to a final rule published in the Federal Register on August 20, 1999 (64 FR 45413), which established the procedures for a Request for Referendum pursuant to the Soybean Promotion, Research, and Consumer Information Act (7 U.S.C. 6301-6311) and the Soybean Promotion and Research Order (7 CFR part 1220).

The substance of the January 3, 2000, correction requires no change. However, the effective date of the correction is being changed to December 30, 1999, to enable those changes to appear in the 2000 issue of the Code of Federal Regulations.

Correction

In the Federal Register issue of January 3, 2000 (65 FR 1), make the following correction. On page 1, in the first column, under the caption EFFECTIVE DATE correct the date to read: “December 30, 1999.”

January 12, 2000
Barry L. Carpenter,
Deputy Administrator, Livestock and Seed Program.

[FR Doc. 00-1224 Filed 1-18-00; 8:45 am]

BILLING CODE 3410-02-M